DEPARTMENT OF HEALTH AND HUMAN SERVICES

Centers for Disease Control and Prevention

[30Day-25-24GO]

Agency Forms Undergoing Paperwork Reduction Act Review

In accordance with the Paperwork Reduction Act of 1995, the Centers for Disease Control and Prevention (CDC) has submitted the information collection request titled “Formative Research on Adverse and positive childhood experiences, social determinants of health, and health equity among young adults in the US” to the Office of Management and Budget (OMB) for review and approval. CDC previously published a “Proposed Data Collection Submitted for Public Comment and Recommendations” notice on July 19, 2024 to obtain comments from the public and affected agencies. CDC received 17 non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Formative Research on Adverse and Positive Childhood Experiences, Social Determinants of Health, and Health Equity Among Young Adults in the US—New—National Center for Injury Prevention and Control (NCIPC), Centers for Disease Control and Prevention (CDC).

Background and Brief Description

CDC requests OMB approval for a new data collection titled Formative research on adverse and positive childhood experiences, social determinants of health, and health equity among young adults in the US. This study will help CDC to better understand the relationship between adverse childhood experiences (ACEs), positive childhood experiences (PCEs), social determinants of health (SDOH), and health outcomes among young adults from populations that have been socially and economically marginalized. This is a group at high risk for experiencing childhood adversity and has been historically underrepresented in research studies.

CDC is seeking approval from OMB to conduct a one-time information collection effort, with data collection occurring over a 12-month period. The study will include 6,000 young adults ages 18 to 24 living in the United States. Primary data collection in English and Spanish, via a probability-based web panel survey, will obtain new data on retrospective assessments of ACEs and other potentially traumatic experiences, PCEs, SDOHs, and health and violence outcomes. Sampling frameworks will be designed to ensure overrepresentation of some populations that are disproportionately impacted by ACEs as well as underrepresented in research and violence prevention programming, including individuals with disabilities; individuals from racial and ethnic minority groups; and individuals who identify as sexual or gender minority.

This project expands the existing evidence base and addresses several gaps in extant data collection systems in the following three ways:

First, this study expands how ACEs are measured. Traditional ACEs research has measured eight to ten highly interconnected, household-level childhood stressors. These include sexual abuse, physical abuse, emotional abuse, emotional neglect, physical neglect, witnessing intimate partner violence, parent separation/divorce, and living in a home with exposure to mental illness, substance misuse, and incarceration (hereafter referred to as traditional ACEs). However, most ACE research does not account for a wide array of other potentially traumatic experiences that can exist across all levels of the social ecology, including stressors that uniquely impact populations that are socially and economically marginalized (e.g., fear of deportation; experiences of transphobia; exposure to neighborhood or community violence). These potentially traumatic experiences may have an additive or multiplicative effect on risk for poor outcomes or may have a greater effect on risk relative to the conventional ACEs categories.

Second, this study will create a diverse sample which is statistically powered to answer questions on how to prevent ACEs and mitigate the impact of specific and cumulative ACE exposures among communities that have been traditionally socially and economically marginalized. Most samples used in prior surveillance and research studies do not sufficiently oversample under-represented communities to allow for disaggregation of results by sub-group. Thus, there is a need for data samples that allow for disaggregated analysis and results.

Third, this study will link individual level data to community-level variables. While ACEs are individual experiences, they are influenced by the contexts in which children and families live. SDOH are the conditions in which people are born, grow, live, work, and age that are shaped by the distribution of money, power, and resources. SDOH contribute to health and social inequities for groups with disparities in access to money, power and resources. Many existing ACE datasets involving individual-level respondents cannot be linked to community-level variables. This formative study will link survey data with publicly available data on structural factors (e.g., minimum wage; generosity of unemployment benefits) via USPS zip code or other geographic indicators.

CDC requests OMB approval for an estimated 3591 annual burden hours. There is no cost to respondents other than their time to participate.

Estimated Annualized Burden Hours
Type of respondent | Form name | Number of respondents | Number of responses per respondent | Average burden per response (in hours)
18-24-year-old survey respondents | Recruitment Email | 5,908 | 1 | 1/60
| First Follow up Recruitment Email—non-panel | 5,907 | 5 | 1/60
| Web Survey—English | 5,700 | 1 | 30/60
| Web Survey—Spanish | 300 | 1 | 30/60

Jeffrey M. Zirger,
Lead, Information Collection Review Office, Office of Public Health Ethics and Regulations, Office of Science, Centers for Disease Control and Prevention.

[FR Doc. 2024-29444 Filed 12-12-24; 8:45 am]

BILLING CODE 4163-18-P